CONSUMER PRODUCT SAFETY COMMISSION

[Docket No. CPSC-2017-0008]

Request for Information Regarding Mattress Materials

AGENCY: U.S. Consumer Product Safety Commission.

ACTION: Notice.

SUMMARY: The Consumer Product Safety Commission (CPSC or Commission) is requesting information on the materials, components, and methods of assembly currently used to comply with the Standard for the Flammability of Mattresses and Mattress Pads, and the Standard for the Flammability (Open Flame) of Mattress Sets.

DATES: Submit comments by April 3, 2017.

ADDRESSES: You may submit comments, identified by Docket No. CPSC-2017-0008, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2017-0008, into the “Search” box, and follow the prompts.

FOR FURTHER INFORMATION CONTACT: Lisa L. Scott, Fire Protection Engineer, Laboratory Sciences, U.S. Consumer Product Safety Commission, 5 Research Place, Rockville, MD 20850; telephone: 301.987.2064; email: lscott@cpsc.gov.

SUPPLEMENTARY INFORMATION:

I. Background

The Commission has issued two federal flammability standards for mattresses under the Flammable Fabrics Act (FFA), 15 U.S.C. 1191: The Standard for the Flammability of Mattresses and Mattress Pads (Cigarette Ignition Standard), 16 CFR part 1632 and the Standard for the Flammability (Open Flame) of Mattress Sets (Open Flame Standard), 16 CFR part 1633. Each standard prescribes requirements for testing of mattress prototypes. Both the Cigarette Ignition Standard and the Open Flame Standard prescribe requirements for testing of prototype designs before products using those designs are introduced into commerce. Both standards allow changes to ticking materials used in prototypes under certain conditions. The ticking substitution procedure of the Cigarette Ignition Standard provides procedures for evaluating the cigarette ignition characteristics of ticking and classifying ticking into one of three performance classes based on the results. The procedures may be used to change ticking in a particular prototype of a mattress or mattress pad without conducting a new cigarette ignition prototype test. When the Open Flame Standard was developed, CPSC staff believed that the ticking substitution procedures in the Cigarette Ignition Standard could be used to allow for ticking changes under the Open Flame Standard. Although staff expected that manufacturers would be relying on the ticking substitution procedures to make changes to ticking and use those procedures to comply with the Open Flame Standard, staff seeks information regarding the usefulness of the ticking substitution procedure for meeting the Open Flame Standard.

The ticking substitution procedure in the Cigarette Ignition Standard prescribes testing representative specimens of ticking material over a wooden box filled with cotton felt and a urethane foam pad using a standard cigarette ignition source. Depending on the results of that test, the test is repeated without the urethane foam pad. The Cigarette Ignition Standard defines a schedule of classifications (Class A, Class B, or Class C) based on the results of the test and identifies the scope and application of these classifications for substituting ticking. There is no specific test procedure in the Open Flame Standard related to ticking substitution.

CPSC staff is requesting information on the materials, components, and methods of assembly currently being used to comply with both standards, as described below. This information will be used to inform CPSC staff of current practices in the industry and determine whether the current testing protocols used for the ticking substitution procedure in the Cigarette Ignition Standard (16 CFR 1632.6) are adequate or need revision to reduce variability in the current test procedure. In addition, based on CPSC staff's recent rule review of the Open Flame Standard, (81 FR 91923 (Dec. 19, 2016)), staff concluded that the industry could benefit from additional outreach and guidance from CPSC staff to ensure compliance with the requirements. Accordingly, CPSC staff is interested in learning about stakeholder experiences related to prototyping to meet the requirements of the Open Flame Standard so that staff can provide appropriate guidance on these topics.

II. Request for Information

If you provide any information in response to the request for information that contains confidential business information, trade secret information, or other sensitive or protected information that you do not want to be available to the public, you should submit such information in writing to the Office of the Secretary, as provided in the ADDRESSES section above.

A. The Cigarette Ignition Standard

CPSC staff is seeking information about industry experience with the test procedure, apparatus, and materials used in the ticking substitution procedure in the Cigarette Ignition Standard. Additionally, CPSC staff is interested in the specifications of the components used and the availability of specified testing materials for this procedure. CPSC staff is aware that stakeholders have expressed concerns related to conducting both parts of the procedure as described above, and staff requests information from manufacturers, importers, laboratories and suppliers to better understand these concerns.

1. What types of procedures or alternative test protocols are likely to be used for evaluating or substituting tickings? Are there alternative test protocols that may result in different ticking classifications? Please provide information about the benefits of these alternatives and whether and why the different ticking classification results are more or less accurate for the different methods.

2. How are sources for the test materials specified in the ticking substitution procedure selected? Are there alternative test materials or material specifications that may improve the repeatability of the test?

3. If the test described in 16 CFR 1632.6(e) Test Procedure is performed, who is likely to perform the test (e.g., the mattress manufacturer or the ticking supplier or another party)? Please explain. Is the ticking classification verified by a lab report or some other documentation?

4. If a ticking is to be substituted on a qualified mattress prototype, how are candidate tickings for a substitution selected? Other than ticking classification, what factors or features are important when selecting a ticking material? Please explain the benefits and/or concerns related to structure (e.g., knit, woven, nonwoven), fiber content, or other factors that may affect the decision. Is effect on compliance with the Open Flame Standard a consideration in the selection process?

5. How do different ticking design features, when used in combination with flat areas or non-designed sections, impact the placement of cigarettes during the test (e.g., color patterns, weave pattern features, heat-bonded sections, quilted sections, 3-D designs, etc.)?

B. The Open Flame Standard

Under the Open Flame Standard, a prototype is tested and serves as a model for production. The Open Flame Standard distinguishes between a qualified prototype, confirmed prototype, and subordinate prototype. CPSC staff is interested in learning about stakeholder experiences related to prototyping to meet the requirements of the Open Flame Standard so that staff can provide appropriate guidance on these topics.

6. What are the materials, components and, methods of assembly used to comply with the performance requirements of the Open Flame Standard?

7. Does the fiber content, barrier type, material construction, and method of assembly impact the performance of a mattress tested using the procedure in 16 CFR 1633.7?

8. What conditions might influence a decision to include specific technologies to comply with the Open Flame Standard (e.g., inherently flame resistant material, topically applied flame retardant chemical treatment, FR thread, etc.)?

9. A subordinate prototype is a mattress set that is based on a qualified or confirmed prototype and is the same as the qualified or confirmed prototype, except with respect to length and/or width, not depth; ticking material, unless the ticking of the qualified prototype has characteristics designed to improve test performance; and/or any component, material, design or method of assembly, so long as the manufacturer can demonstrate on an objectively reasonable basis that such differences will not cause the mattress set to exceed the test criteria of the Open Flame Standard. See 16 CFR 1633.4(b).

Please provide examples of how the subordinate prototype provisions are implemented in production.

10. For purposes of the Open Flame Standard, each factory location is considered a manufacturer. Prototype pooling is a cooperative arrangement—whereby one or more manufacturers build mattress sets based on a qualified prototype produced by another manufacturer or prototype developer. A manufacturer who relies on another manufacturer's or prototype developer's qualified prototype must perform a confirmation test on the mattress set it manufactures. See 16 CFR 1633.5.

What are some examples of how a prototype pooling arrangement may be accomplished? How frequently are confirmation tests performed, as described in 16 CFR 1633.2(r)?

11. What types of quality assurance programs are in use? What controls, inspection procedures, and production testing schemes are most effective? When mattresses are produced by a secondary firm under contract for a primary firm (e.g., under private label) or are imported, what quality assurance controls are in place to ensure that the mattresses that are produced are the same as those used in the qualified and/or confirmed prototype on which they are based?

Dated: January 26, 2017.
Todd A. Stevenson,
Secretary, Consumer Product Safety Commission.

[FR Doc. 2017-02058 Filed 1-31-17; 8:45 am]

BILLING CODE 6355-01-P